SMALL BUSINESS ADMINISTRATION

Reporting and Recordkeeping Requirements Under OMB Review

AGENCY: Small Business Administration

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before March 16, 2026.

ADDRESSES: Written comments and recommendations for this information collection request should be sent within 30 days of publication of this notice to www.reginfo.gov/public/do/ PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Shauniece.Carter@sba.gov; or from www.reginfo.gov/public/do/PRAMain.

SUPPLEMENTARY INFORMATION: This is a new collection for the U.S. Small Business Administration's (SBA) Regional Innovation Cluster (RIC) Program. This data collection is an online form to be completed by small business and partner organization members of RICs funded through SBA. The form enables SBA to track membership of RICs.

Through the RIC Program, the SBA invests regional clusters—geographic concentrations of interconnected companies, specialized suppliers, academic institutions, service providers, and associated organizations with a specific industry focus—throughout the United States that span a variety of industries, ranging from energy and manufacturing to advanced defense technologies. The standardized membership information will enable SBA to more rigorously track small business support across individual RICs and the overall program.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: New data collection.

(1) Title: Regional Innovation Cluster Membership Onboarding Form.

Description of Respondents: Small business concerns and partner organizations who are members of Regional Innovation Clusters.

Total Estimated Annual Responses: 3,250.

Total Estimated Annual Hour Burden: 344.5.

Shauniece Carter,
Agency Clearance Officer.

[FR Doc. 2026-02879 Filed 2-12-26; 8:45 am]

BILLING CODE 8026-09-P